DEPARTMENT OF TRANSPORTATION

Federal Aviation Administration

[Summary Notice No. PE-2000-58]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption Part 11 of Title 14, Code of Federal Regulations (14 CFR), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before November 8, 2000.

ADDRESSES: Send comments on any petition in triplicate to: Federal Aviation Administration, Office of the Chief Counsel, Attn: Rule Docket (AGC-200), Petition Docket No. ___, 800 Independence Avenue, SW., Washington, DC 20591.

The petition, any comments received, and a copy of any final disposition are filed in the assigned regulatory docket and are available for examination in the Rule Docket (AGC-200), Room 915G, FAA Headquarters Building (FOB 10A), 800 Independence Avenue, SW, Washington, DC 20591; telephone (202) 267-3132.

FOR FURTHER INFORMATION CONTACT: Forest Rawls (202) 267-8033, or Vanessa Wilkins (202) 267-8029 Office of Rulemaking (ARM-1), Federal Aviation Administration, 800 Independence Avenue, SW, Washington, DC 20591.

This notice is published pursuant to § 11.85 and 11.91 of Part 11 of the Federal Aviation Regulations (14 CFR Part 11).

Issued in Washington, DC, on October 13, 2000.
Donald P. Byrne,
Assistant Chief Counsel for Regulations.

Dispositions of Petitions

Docket No.: 30130.

Petitioner: North Jersey Chapter of the Ninety-Nines, Inc.

Section of the 14 CFR Affected: 14 CFR §§ 135.251, 135.255, 135.353, and appendixes I and J to part 121.

Description of Relief Sought/Disposition: To permit NJNN to conduct local sightseeing flights in the vicinity of Lincoln Park, New Jersey, for its one-day Pennies-a-Pound event in October 2000, for compensation or hire, without complying with certain anti-drug and alcohol prevention requirements of part 135.

Grant, 09/21/00, Exemption No. 7356

Docket No.: 30144.

Petitioner: Mr. Milford Dwaine Byrd and Monroe Full Gospel Church.

Section of the 14 CFR Affected: 14 CFR §§ 135.251, 135.255, 135.353, and appendixes I and J to part 121.

Description of Relief Sought/Disposition: To permit Mr. Byrd and MFGC to conduct local sightseeing flights at Custer Airport, Monroe, Michigan, for two FunFlight events in October 2000, for compensation or hire, without complying with certain anti-drug and alcohol misuse prevention requirements of part 135.

Grant, 09/21/00, Exemption No. 7355

Docket No.: 29228.

Petitioner: PSA Airlines, Inc.

Section of the 14 CFR Affected: 14 CFR §§ 121.433(c)(1)(iii), 121.441(a)(1) and (b), and appendix F to part 121.

Description of Relief Sought/Disposition: To permit PSA to combine recurrent flight and ground training and proficiency checks for PSA's flight crewmembers into a single annual training and proficiency evaluation program, that is a single-visit training program.

Grant, 10/02/00, Exemption 6821A

Docket No.: 29360.

Petitioner: Skydive City, Inc.

Section of the 14 CFR Affected: 14 CFR 105.43(a).

Description of Relief Sought/Disposition: To permit SCI to allow nonstudent foreign nationals to participate in SCI-sponsored parachute jumping events held at SCI's facilities without complying with the parachute equipment and packing requirements of § 105.43(a).

Grant, 10/02/00, Exemption No. 6870A

Docket No.: 30097.

Petitioner: Federal Aviation Administration, Aviation System Standards.

Section of the 14 CFR Affected: 14 61.3(a) and (c).

Description of Relief Sought/Disposition: To permit FAA AVN pilot crewmembers to be issued facsimiles of their pilot and medical certificates when those certificates are lost, destroyed, or misplaced.

Grant, 10/03/00, Exemption No. 74363

[FR Doc. 00-26830 Filed 10-18-00; 8:45 am]

BILLING CODE 4910-13-M